DEPARTMENT OF LABOR

Employment and Training Administration

[TA-W-61,177]

Bartech Group, Inc., Including Workers of Continental Design and Engineering and Manpower, Anderson, IN; Notice of Termination of Investigation

Pursuant to Section 221 of the Trade Act of 1974, as amended, an investigation was initiated on March 26, 2007 in response to a petition filed on behalf of workers of Bartech Group, Inc., including workers of Continental Design and Engineering and Manpower, Anderson, Indiana.

The petitioning group of workers is covered by an active certification (TA-W-60,858 as amended) which expires on February 2, 2009. Consequently, further investigation in this case would serve no purpose, and the investigation has been terminated.

Signed at Washington, DC this 2nd day of May 2007.
Richard Church,
Certifying Officer, Division of Trade Adjustment Assistance.

[FR Doc. E7-8824 Filed 5-8-07; 8:45 am]

BILLING CODE 4510-FN-P